DEPARTMENT OF THE INTERIOR

Bureau of Indian Affairs

DEPARTMENT OF HEALTH AND HUMAN SERVICES

Indian Health Service

Proposed Renewal of Agency Information Collection for Indian Self-Determination and Education Assistance Contracts

AGENCY: Bureau of Indian Affairs, Interior.

ACTION: Notice of submission to the Office of Management and Budget.

SUMMARY: The Bureau of Indian Affairs (BIA) and Indian Health Service (IHS) are submitting the information collection, titled “Indian Self-Determination and Education Assistance Act Programs, 25 CFR 900” to the Office of Management and Budget for renewal. The current approval, designated by OMB Control Number 1076-0136, expires on February 28, 2010. The information is collected to process contracts, grants, or cooperative agreements for award by the BIA and the IHS, as authorized by the Indian Self-Determination and Education Assistance Act.

DATES: Submit comments on or before March 25, 2010.

ADDRESSES: You may submit comments on the information collection to the Desk Officer for Department of the Interior at the Office of Management and Budget, by facsimile to (202) 395-5806 or you may send an e-mail to: OIRA_DOCKET@omb.eop.gov. Please send a copy of your comments to Terry Parks, Office of Indian Services, Bureau of Indian Affairs, Department of the Interior, 1849 C Street, NW., Mail Stop 4520, Washington, DC 20240, Facsimile: (202) 208-5113.

FOR FURTHER INFORMATION CONTACT: You may request further information or obtain copies of the information collection request submission from Terry Parks, telephone: (202) 513-7625.

SUPPLEMENTARY INFORMATION:

I. Abstract

Representatives of the BIA and IHS seek renewal of the approvals for information collections conducted under their joint rule, 25 CFR part 900, implementing the Indian Self-Determination and Education Assistance Act, as amended (25 U.S.C. 450 et seq.). The Act required the joint rule to govern how contracts and grants are awarded to Indian tribes, thereby avoiding the unnecessary burden or confusion associated with two sets of rules and information collection requirements. See 25 U.S.C. 450k(a)(2)(A)(ii). There is no change to the approved burden hours for this information collection.

The information requirements for this joint rule represent significant differences from other agencies in several respects. Both the BIA and IHS let contracts for multiple programs whereas other agencies usually award single grants to tribes. Under the Act, tribes are entitled to contract and may renew contracts annually, whereas other agencies provide grants on a discretionary or competitive basis.

The BIA and IHS use the information collected to determine applicant eligibility, evaluate applicant capabilities, protect the service population, safeguard Federal funds and other resources, and permit the Federal agencies to administer and evaluate contract programs. Tribal governments or tribal organizations provide the information by submitting Public Law 93-638 contract or grant proposals to the appropriate Federal agency. No third party notification or public disclosure burden is associated with this collection. Approval for the collection expires on February 28, 2010.

II. Request for Comments

The BIA and IHS request that you send your comments on this collection to the locations listed in the ADDRESSES section. Your comments should address: (a) The necessity of the information collection for the proper performance of the agencies, including whether the information will have practical utility; (b) the accuracy of the agencies' estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m. to 5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0136.

Title: Indian Self-Determination and Education Assistance Contracts, 25 CFR Part 900.

Brief Description of Collection: An Indian tribe or tribal organization may be required to respond from 1 to 12 times per year, depending upon the number of programs they contract from the BIA and IHS. Each response may vary in its length. In addition, each subpart of 25 CFR part 900 concerns different parts of the contracting process. For example, Subpart C relates to provisions of the contents for the initial contract proposal. The burden associated with this would not be used when contracts are renewed. Subpart F describes minimum standards for the management systems used by Indian tribes or tribal organizations under these contracts. Subpart G addresses the negotiability of all reporting and data requirements in the contract. Responses are required to obtain or retain a benefit.

Type of Review: Renewal.

Respondents: Federally recognized Indian tribes and tribal organizations.

Number of Respondents: 550.

Total Number of Responses: 5,267.

Estimated Time per Response: Varies from 10 to 50 hours, with an average of 45 hours per response.

Total Annual Burden to Respondents: 219,792 hours.

Dated: December 18, 2009.
Alvin Foster,
Chief Information Officer, Bureau of Indian Affairs.
Dated: December 11, 2009.
Randy Grinnell,
Deputy Director of Indian Health Services.

[FR Doc. 2010-3486 Filed 2-22-10; 8:45 am]

BILLING CODE 4310-4M-P